DEPARTMENT OF THE INTERIOR

Bureau of Indian Affairs

25 CFR Part 70

RIN 1076-AD98

Certificate of Degree of Indian or Alaska Native Blood

AGENCY: Bureau of Indian Affairs, Interior.

ACTION: Proposed rule; Reopening of comment period and additional public meetings.

SUMMARY: This notice reopens the comment period for the proposed rule published at 65 FR 38228 (June 20, 2000), to establish documentation requirements and standards for filing, processing, and issuing a Certificate of Degree of Indian or Alaska Native Blood (CDIB) by the Bureau of Indian Affairs; and announces two additional public meetings to discuss the proposed rule.

DATES: The comment period is extended from August 16, 2000, to the close of business, on December 20, 2000, Central Standard Time. The public meetings will be held on November 7, 2000 and November 8, 2000, 9 a.m. to 4 p.m., local time.

ADDRESSES: You may mail your comments to Karen Ketcher, Branch of Tribal Operations, Eastern Oklahoma Region, Bureau of Indian Affairs, 101 North 5th Street, Muskogee, OK 74401.

FOR FURTHER INFORMATION CONTACT: Karen Ketcher, Branch of Tribal Operations, Eastern Oklahoma Region, Department of the Interior, Bureau of Indian Affairs, 101 North 5th Street, Muskogee, OK 74401. You may also hand-deliver comments to us at Room 426, at the same address. For information about filing comment electronically, see the SUPPLEMENTARY INFORMATION section in the April 18, 2000, Federal Register notice.

SUPPLEMENTARY INFORMATION: On Tuesday, June 20, 2000, the Bureau of Indian Affairs published a proposed rule; notice of meeting and extension of comment period, 65 FR 38228, to establish documentation requirements and standards for filing, processing, and issuing a Certificate of Degree of Indian or Alaska Native Blood (CDIB). The deadline for receipt of comments was July 17, 2000, which was extended to August 16, 2000. We are now scheduling several additional public meetings for representatives of the California Indian tribes. The public meetings will be held as follows: Tuesday November 7, 2000, in Sacramento, California, at the Bureau of Indian Affairs Pacific Regional Office at 2800 Cottage Way, Sacramento, California 95825, telephone number (916) 978-6063 and Wednesday, November 8, 2000, at the Ontario Convention Center, 2000 Convention Center Way, Ontario, California 91764, telephone number (909) 937-3000. Persons who wish to testify at any future sessions scheduled where comments are recorded for the record are requested to observe the following rules: In order to assist the transcriber and to ensure an accurate record, we request that you give the transcriber a copy of your prepared testimony. In order to assist us in preparing appropriate responses or answers to your questions, we also ask that if you plan to testify, please submit an advance copy of your testimony to us at the address specified in the ADDRESSES section.

Dated: October 24, 2000.
Kevin Gover,
Assistant Secretary—Indian Affairs.

[FR Doc. 00-27783 Filed 10-27-00; 8:45 am]

BILLING CODE 4310-02-P